ENVIRONMENTAL PROTECTION AGENCY

40 CFR Part 180

[OPP-2002 -0037; FRL-6835-7]

RIN 2070-AB78

Pesticides; Removal of Duplicative or Expired Time-limited Tolerances for Emergency Exemptions

AGENCY: Environmental Protection Agency (EPA).

ACTION: Final rule.

SUMMARY: EPA is amending 40 CFR part 180 to remove time-limited tolerances for several pesticides that were originally established to support emergency exemptions issued under section 18 of the Federal Insecticide, Fungicide, and Rodenticide Act (FIFRA). These time-limited tolerances are being removed from 40 CFR part 180 because they have since expired or because permanent tolerances have been established for the pesticide and commodity covered by the time-limited tolerance. The expired time-limited tolerance is obsolete, while the unexpired time-limited tolerance covered by a permanent tolerance is duplicative. In either case, the time-limited tolerance is unnecessary and is being removed with this final rule to ensure that the regulatory listings of tolerances is properly updated.

DATES: This rule is effective May 17, 2002. Objections and requests for hearings, identified by docket control number OPP-2002-0037, must be received by EPA on or before July 16, 2002.

ADDRESSES: Written objections and hearing requests may be submitted by mail, in person, or by courier. Please follow the detailed instructions for each method as provided in Unit I.C. of the “SUPPLEMENTARY INFORMATION” section. To ensure proper receipt by EPA, your objections and hearing requests must identify docket control number OPP-2002-0037 in the subject line on the first page of your response.

FOR FURTHER INFORMATION CONTACT: Robert Forrest, Registration Division (7505C), Office of Pesticide Programs, Environmental Protection Agency, 1200 Pennsylvania Ave., NW., Washington, DC 20460; telephone number: (703) 308-9376; and e-mail address: forrest.robert@epa.gov.

SUPPLEMENTARY INFORMATION:

I. General Information

A. Does this Action Apply to Me?

You may be affected by this action if you are an agricultural producer, food manufacturer, or pesticide manufacturer. Potentially affected categories and entities may include, but are not limited to:

Categories | NAICS | Examples of Potentially Affected Entities
Industry | 111 | Crop production
| 112 | Animal production
| 311 | Food manufacturing
| 32532 | Pesticide manufacturing

This listing is not intended to be exhaustive, but rather provides a guide for readers regarding entities likely to be affected by this action. Other types of entities not listed in the table could also be affected. The North American Industrial Classification System (NAICS) codes have been provided to assist you and others in determining whether or not this action might apply to certain entities. If you have questions regarding the applicability of this action to a particular entity, consult the person listed under FOR FURTHER INFORMATION CONTACT.

B. How Can I Get Additional Information, Including Copies of this Document and Other Related Documents?

1. Electronically. You may obtain electronic copies of this document, and certain other related documents that might be available electronically, from the EPA Internet Home Page at http://www.epa.gov/. To access this document, on the Home Page select “Laws and Regulations,” “Regulations and Proposed Rules,” and then look up the entry for this document under the “Federal Register—-Environmental Documents.” You can also go directly to the Federal Register listings at http://www.epa.gov/fedrgstr/. A frequently updated electronic version of 40 CFR part 180 is available at http://www.access.gpo.gov/nara/cfr/cfrhtml_00/Title_40/40cfr180_00.html, a beta site currently under development.

2. In person. The Agency has established an official record for this action under docket control number OPP-2002-0037. The official record consists of the documents specifically referenced in this action, and other information related to this action, including any information claimed as Confidential Business Information (CBI). This official record includes the documents that are physically located in the docket, as well as the documents that are referenced in those documents. The public version of the official record does not include any information claimed as CBI. The public version of the official record, which includes printed, paper versions of any electronic comments submitted during an applicable comment period is available for inspection in the Public Information and Records Integrity Branch (PIRIB), Rm. 119, Crystal Mall #2, 1921 Jefferson Davis Hwy., Arlington, VA, from 8:30 a.m. to 4 p.m., Monday through Friday, excluding legal holidays. The PIRIB telephone number is (703) 305-5805.

C. How Can I Submit an Objection or Request a Hearing Under FFDCA?

Although section 408(g) of the Federal Food, Drug, and Cosmetic Act (FFDCA), as amended by the Food Quality Protection Act (FQPA), allows any person to file an objection or request a hearing when the Agency issues a final tolerance action under section 408, EPA does not expect that anyone will file an objection or request a hearing for this particular rule because the tolerances being revoked here are unnecessary duplicates of a permanent tolerance that remains in place or are obsolete by their own terms. If, for some reason, anyone wishes to file an objection or request for a hearing under section 408(g), please follow the EPA procedural regulations which govern the submission of objections and requests for hearings that appear in 40 CFR part 178. Note that the period for filing objections is now 60 days, rather than 30 days.

II. Authority

A. What is EPA's Authority for Revoking these Tolerances?

This final rule is issued pursuant to section 408(e) of FFDCA, as amended by the FQPA (21 U.S.C. 346a(e)). Section 408 of FFDCA authorizes the establishment of tolerances, exemptions from the requirement of a tolerance, modifications in tolerances, and revocation of tolerances for residues of pesticide chemicals in or on raw agricultural commodities and processed foods. Without a tolerance or tolerance exemption, food containing pesticide residues is considered to be unsafe and therefore “adulterated” under section 402(a) of the FFDCA. If food containing pesticide residues is found to be adulterated, the food may not be distributed in interstate commerce (21 U.S.C. 331(a) and 342(a)).

B. Why is EPA Issuing this as a Final Rule?

Section 553 of the Administrative Procedure Act, 5 U.S.C. 553(b)(B), provides that, when an agency for good cause finds that notice and public procedure are impracticable, unnecessary or contrary to the public interest, the agency may issue a rule without providing notice and an opportunity for public comment. EPA has determined that there is good cause for making today's rule final without prior proposal and opportunity for comment because the actions taken in this final rule represent technical corrections to the regulations and do not involve substantive Agency action.

The removal of an expired time-limited tolerance from 40 CFR part 180 represents a simple correction of the regulations, and does not involve any substantive Agency action. The expiration date for the time-limited tolerance is set when the Agency issues the final rule that originally establishes, or a subsequent final rule that amends, the specific time-limited tolerance. Once that time-limited tolerance expires, the associated listing in 40 CFR part 180 is obsolete and must be removed to reflect that expiration.

The revocation of an unexpired time-limited tolerance from 40 CFR part 180, however, represents a substantive Agency action. In this case, that action is appropriate because the Agency's subsequent establishment of a permanent tolerance for the same pesticide chemical and commodity that was covered by the time-limited tolerance, causes the time-limited tolerance to become obsolete. Although the time-limited tolerance would expire by its own terms and become obsolete, the Agency is removing these tolerances today to eliminate an unnecessary duplication in the regulations.

For these reasons, notice and public procedure are unnecessary. EPA finds that this constitutes good cause under 5 U.S.C. 553(b)(B).

III. Overview of Today's Action

A. What Action is EPA Taking?

For each pesticide chemical and commodity combination listed below, EPA previously established a time-limited tolerance, under section 408 of the FFDCA, 21 U.S.C. 346a, as amended by the FQPA of 1996 (Public Law 104-170). EPA established the tolerances because section 408(l)(6) of the FFDCA requires EPA to establish a time-limited tolerance or exemption from the requirement for a tolerance for pesticide chemical residues in food that will result from the use of a pesticide under an emergency exemption granted by EPA under section 18 of FIFRA. These time-limited tolerances are being removed from 40 CFR part 180 today because they have since expired or because permanent tolerances have since been established making these time-limited tolerances obsolete or unnecessary.

B. Which Time-Limited Tolerances are Obsolete?

The time-limited tolerances for the following pesticide chemicals on specific commodities are being removed from 40 CFR part 180 because the time-limited tolerances have expired, or are duplicative of a permanent tolerance that the Agency subsequently established for the pesticide and commodity covered by the time-limited tolerance. In either case, the time-limited tolerance is obsolete and no longer necessary:

1. Avermectin. The time-limited tolerance for celeriac is being removed from 40 CFR 180.449 because a permanent tolerance for the same pesticide chemical and commodity has been established.

2. Azoxystrobin. Time-limited tolerances for aspirated soybean grain fractions; cucurbits; eggs; kidney of cattle; kidney of goats, hogs, and sheep grazed on sugar beets; leaf and head lettuce; liver of cattle, goat, horse, sheep, hog, and poultry; meat and fat of cattle, goat, horse, sheep, poultry and swine; milk; dried and fresh parsley; rice grain; rice hulls; rice straw; soybean meal; soybean oil; soybean silage; spinach; sugar beet roots; sugar beet tops; sugar beet molasses; dried sugar beet pulp; refined sugar of sugar beet; and strawberries; are being removed from 40 CFR 180.507 because they expired on or before December 30, 2001. The time-limited tolerance for watercress is being removed from 40 CFR part 180 because a permanent tolerance for the same pesticide chemical and commodity has been established.

3. Bentazon. The time-limited tolerance for succulent peas is being removed from 40 CFR 180.355 because it expired on December 31, 2000.

4. Bifenthrin. Time-limited tolerances for broccoli; cabbage; canola seed; cauliflower; grapes; raspberries; and cucurbit vegetables are being removed from 40 CFR 180.442 because they expired on or before December 31, 2001.

5. Carfentrazone-ethyl. Time-limited tolerances for rice grain and rice straw are being removed from 40 CFR 180.515 because they expired on December 31, 2000.

6. Chlorfenapyr. Time-limited tolerances for fat; meat byproducts and meat of cattle, goats, hogs, horses and sheep; cottonseed; cotton gin byproducts; milk; and milk fat are being removed from 40 CFR 180.513 because they expired on January 31, 2001.

7. Clomazone. Time-limited tolerances for rice grain, rice straw, sugarcane and watermelons are being removed from 40 CFR 180.425 because permanent tolerances for the same pesticide chemical and commodities have been established.

8. Cymoxanil. The time-limited tolerance for tomatoes is being removed from 40 CFR 180.503 because it expired on May 15, 1999.

9. Cyprodinil. The time-limited tolerance for strawberries is being removed from 40 CFR 180.532 because it expired on May 31, 2001.

10. Dicloran. Time-limited tolerances for peanut oil and peanuts are being removed from 40 CFR 180.200 because they expired on October 31, 2001.

11. Diflubenzuron. The time-limited tolerance for pears is being removed from 40 CFR 180.377 because it expired on March 31, 2001.

12. Dimethomorph. Time-limited tolerances for potatoes, tomatoes, tomato paste, and tomato puree are being removed from 40 CFR 180.493 because they expired on or before September 15, 2000.

13. Endothall. The time-limited tolerance for canola seed is being removed from 40 CFR 180.293 because it expired on February 29, 2000.

14. Ethametsulfuron-methyl. The time-limited tolerance for canola is being removed from 40 CFR 180.563 because a permanent tolerance for the same pesticide chemical and commodity has been established.

15. Fenarimol. Time-limited tolerances for filberts and hops are being removed from 40 CFR 180.421 because they expired on December 31, 1998.

16. Fenoxycarb. The time-limited tolerance for pears is being removed from 40 CFR 180.504 because it expired on April 30, 1998.

17. Fenpropathrin. Time-limited tolerances for soybean forage, soybean hay, soybean hulls, soybean meal, refined soybean oil, and soybean seed are being removed from 40 CFR 180.466 because they expired on December 31, 2001.

18. Fludioxonil. The time-limited tolerance for strawberry is being removed from 40 CFR 180.516 because it expired on May 31, 2001.

19. Glyphosate. Time-limited tolerances for kidney of cattle, goats, horses, and sheep; chickpeas; lentils; pea hay; pea vines; dry peas and silage hay are being removed from 40 CFR 180.364 because they expired on February 29, 2000.

20. Imidacloprid. Time-limited tolerances for citrus fruits crop group; dried citrus pulp; field corn forage; field corn stover (fodder); field corn grain; sweet corn fodder; sweet corn forage; sweet corn grain and cucurbits vegetable are being removed from 40 CFR 180.472 because permanent tolerances for the same pesticide chemical and commodities have been established.

21. Lambda-cyhalothrin. Time-limited tolerances for canola seed and flax seed are being removed from 40 CFR 180.438 because they expired on December 31, 2000.

22. Maleic hydrazide. Time-limited tolerances for fat, liver, kidney, and meat of cattle, goats, hogs, horses, poultry, and sheep; eggs; milk; rice bran; rice grain; rice hulls; and rice straw are being removed from 40 CFR 180.175 because they expired on September 30, 2000.

23. Mefenoxam. The time-limited tolerance for canola is being removed from 40 CFR 180.546 because it expired on December 31, 2001.

24. Myclobutanil. Time-limited tolerances for asparagus; caneberries; cucurbit vegetables; peppermint; spearmint; strawberries; tomato fruit; tomato paste; and tomato puree are being removed from 40 CFR 180.443 because they expired on or before December 31, 2000.

25. Oxyfluorfen. The time-limited tolerance for strawberries is being removed from 40 CFR 180.381 because it expired on April 15, 2001.

26. Paraquat. The time-limited tolerance for artichokes is being removed from 40 CFR 180.205 because a permanent tolerance for the same pesticide chemical and commodity has been established. Time-limited tolerances for mustard seed; poultry meat by-products; aspirated grain fractions of sorghum; sorghum forage; sorghum grain; and sorghum stover are being removed from 40 CFR 180.205 because they expired on or before November 15, 1998.

27. Primisulfuron-methyl. The time-limited tolerance for bluegrass hay is being removed from 40 CFR 180.452 because it expired on April 30, 2000.

28. Propamocarb hydrochloride. Time-limited tolerances for potatoes; fat, meat, meat by-product of cattle, goats, hogs, horse and sheep; milk are being removed from 40 CFR 180.499 because they expired on September 15, 2000.

29. Propiconazole. Time-limited tolerances for almond hull and almond nut meat are being removed from 40 CFR 180.434 because they expired on July 31, 2000.

30. Propyzamide. Time-limited tolerances for grass forage and grass hay are being removed from 40 CFR 180.317 because they expired on December 31, 2001.

31. Pyridate. Time-limited tolerances for peppermint tops (leaves and stems) and spearmint tops (leaves and stems) are being removed from 40 CFR 180.462 because they expired on December 31, 2001.

32. Pyriproxyfen. Time-limited tolerances for almond hulls, almond nutmeats, citrus fruit, citrus juice, citrus oil, dried citrus pulp, pears, and tomatoes are being removed from 40 CFR 180.510 because permanent tolerances for the same pesticide chemical and commodities have been established.

33. Quinclorac. Time-limited tolerances for fat and meat byproducts of cattle, goats, hogs, horses, and sheep; poultry fat; sorghum grain fodder (stover); sorghum grain forage; sorghum grain; aspirated grain fractions of wheat; wheat forage; wheat grain; milled wheat fractions; and wheat straw are being removed from 40 CFR 180.463 because they expired on May 30, 2000.

34. Sethoxydim. Time-limited tolerances for buckwheat and horseradish are being removed from 40 CFR 180.412 because they expired on or before December 31, 2001.

35. Sodium Salt of Acifluorfen. Time-limited tolerances for cowpeas, lima beans, and Southern peas are being removed from 40 CFR 180.383 because they expired on December 31, 1998.

36. Sodium Salt of Fomesafen. Time-limited tolerances for snap beans and dry beans are being removed from 40 CFR 180.433 because they expired on or before October 31, 1998.

37. Tebuconazole. Time-limited tolerances for pistachios; milk and meat byproducts of cattle, goats, hogs, horses, poultry and sheep are being removed from 40 CFR 180.474 because they expired on December 30, 2000.

38. Tebufenozide. Time-limited tolerances for apple pomace; apples; fat, kidney, liver, meat byproducts and meat of cattle, goats, hogs, and sheep; horse meat; cotton gin byproducts; cottonseed hulls; cottonseed meal; cottonseed oil; undelinted cottonseed; cranberries; leafy vegetable (Cole-brassica); leafy vegetables (non-brassica); milk; pears; pecans; peppers; rice bran; rice grain; rice hulls; rice straw; soybeans; sugar beet tops; sugar beet roots; dried sugar beet pulp; sugar beet molasses; sugar beet refined sugar; sugarcane; sugarcane molasses; and turnip tops are being removed from 40 CFR 180.482 because they expired on or before December 31, 2001.

39. Thiamethoxam. Time-limited tolerances for meat and meat byproducts of cattle, goat, horse, and sheep; undelinted cotton seed; cotton gin byproducts; and milk are being removed from 40 CFR 180.565 because permanent tolerances for the same pesticide chemical and commodities have been established.

40. Triadimefon. Time-limited tolerances for artichokes, asparagus, and chili peppers are being removed from 40 CFR 180.410 because they expired on or before September 1, 1999.

41. Triclopyr. Time-limited tolerances for fish and shellfish are being removed from 40 CFR 180.417 because they expired on or before June 30, 2000.

IV. Regulatory Assessment Requirements

This final rule removes obsolete or unnecessary time-limited tolerances that were previously established under FFDCA section 408.

The Office of Management and Budget (OMB) has exempted tolerance actions like this revocation from review under Executive Order 12866, entitled Regulatory Planning and Review (58 FR 51735, October 4, 1993). Because this rule has been exempted from review under Executive Order 12866, this rule is not subject to Executive Order 13045, entitled Protection of Children from Environmental Health Risks and Safety Risks (62 FR 19885, April 23, 1997), or Executive Order 13211, entitled Actions Concerning Regulations That Significantly Affect Energy Supply, Distribution, or Use (66 FR 28355, May 22, 2001).

Because the agency has made a good cause finding that this action is not subject to notice-and-comment requirements under the Administrative Procedure Act or any other statute (see discussion in Unit II.B. of this preamble), it is not subject to the regulatory flexibility provisions of the Regulatory Flexibility Act (RFA)(5 U.S.C. 601 et seq.), or to sections 202 and 205 of the Unfunded Mandates Reform Act of 1995 (UMRA)(Public Law 104-4). In addition, this action does not significantly or uniquely affect small governments or impose a significant intergovernmental mandate, as described in sections 203 and 204 of UMRA.

This action does not alter the relationships or distribution of power and responsibilities established by Congress in the preemption provisions of FFDCA section 408(n)(4). This action will not have substantial direct effects on State or tribal governments, on the relationship between the Federal government and States or Indian tribes, or on the distribution of power and responsibilities between the Federal government and States or Indian tribes. As a result, this action does not require any action under Executive Order 13132, entitled Federalism (64 FR 43255, August 10, 1999), or under Executive Order 13175, entitled Consultation and Coordination with Indian Tribal Governments (65 FR 67249, November 6, 2000).

Nor does it require special considerations under Executive Order 12898, entitled Federal Actions to Address Environmental Justice in Minority Populations and Low-Income Populations (59 FR 7629, February 16, 1994); or Executive Order 12630, entitled Governmental Actions and Interference with Constitutionally Protected Property Rights (53 FR 8859, March 15, 1988).

This action does not involve any technical standards that would require Agency consideration of voluntary consensus standards pursuant to section 12(d) of the National Technology Transfer and Advancement Act of 1995 (NTTAA), Public Law 104-113, section 12(d) (15 U.S.C. 272 note).

This rule does not impose an information collection burden under the provisions of the Paperwork Reduction Act (PRA)(44 U.S.C. 3501 et seq.).

In issuing this rule, EPA has taken the necessary steps to eliminate drafting errors and ambiguity, minimize potential litigation, and provide a clear legal standard for affected conduct, as required by section 3 of Executive Order 12988 (61 FR 4729, February 7, 1996).

V. Submission to Congress and the Comptroller General

The Congressional Review Act, 5 U.S.C. 801 et seq., generally provides that before a rule may take effect, the agency promulgating the rule must submit a rule report, which includes a copy of the rule, to each House of the Congress and to the Comptroller General of the United States. Section 808 allows the issuing agency to make a rule effective sooner than otherwise provided by the CRA if the agency makes a good cause finding that notice and public procedure is impracticable, unnecessary or contrary to the public interest. This determination must be supported by a brief statement. 5 U.S.C. 808(2). As stated in Unit II.B. of this preamble, EPA has made such a good cause finding for this rule, including the reasons therefor, and established an effective date of May 17, 2002. EPA will submit a report containing this rule and other required information to the U.S. Senate, the U.S. House of Representatives, and the Comptroller General of the United States prior to publication of this final rule in the Federal Register. This final rule is not a “major rule” as defined by 5 U.S.C. 804(2).

List of Subjects in 40 CFR Part 180

Environmental protection, Administrative practice and procedure, Agricultural commodities, Pesticides and pests, Reporting and recordkeeping requirements.

Dated: April 26, 2002.
Donald R. Stubbs,
Acting Director, Registration Division, Office of Pesticide Programs.

Therefore, 40 CFR chapter I is amended as follows:

PART 180—[AMENDED]

1. The authority citation for part 180 continues to read as follows:

Authority: 21 U.S.C. 321(q), 346(a) and 374.

§ 180.175 [Amended]

2. In § 180.175, the text of paragraph (b) following the paragraph heading is removed and reserved.

§ 180.200 [Amended]

3. In § 180.200, the text of paragraph (b) following the paragraph heading is removed and reserved.

§ 180.205 [Amended]

4. In § 180.205, the text of paragraph (b) following the paragraph heading is removed and reserved.

§ 180.293 [Amended]

5. In § 180.293, the text of paragraph (b) following the paragraph heading is removed and reserved.

§ 180.317 [Amended]

6. In § 180.317, in the table in paragraph (b), remove the entries grass, forage and grass, hay.

§ 180.355 [Amended]

7. In § 180.355, the text of paragraph (b) following the paragraph heading is removed and reserved.

§ 180.364 [Amended]

8. In § 180.364, the text of paragraph (b) following the paragraph heading is removed and reserved.

§ 180.377 [Amended]

9. In § 180.377, the text of paragraph (b) following the paragraph heading is removed and reserved.

§ 180.381 [Amended]

10. In § 180.381, the text of paragraph (b) following the paragraph heading is removed and reserved.

§ 180.383 [Amended]

11. In § 180.383, the text of paragraph (b) following the paragraph heading is removed and reserved.

§ 180.410 [Amended]

12. In § 180.410, the text of paragraph (b) following the paragraph heading is removed and reserved.

§ 180.412 [Amended]

13. In § 180.412, in the table in paragraph (b), remove the entries buckwheat and horseradish.

§ 180.417 [Amended]

14. In § 180.417, the text of paragraph (b) following the paragraph heading is removed and reserved.

§ 180.421 [Amended]

15. In § 180.421, the text of paragraph (b) following the paragraph heading is removed and reserved.

§ 180.425 [Amended]

16. In § 180.425, the text of paragraph (b) following the paragraph heading is removed and reserved.

§ 180.433 [Amended]

17. In § 180.433, the text of paragraph (b) following the paragraph heading is removed and reserved.

§ 180.434 [Amended]

18. In § 180.434, in the table in paragraph (b), remove the entries for “Almond hull” and “Almond nut meat”.

§ 180.438 [Amended]

19. In § 180.438, in the table in paragraph (b), remove the entries for “Canola, seed” and “Flax, seed”.

20. In § 180.442, the table in paragraph (b) is revised to read as follows:

§ 180.442 Bifenthrin; tolerances for residues.

* * * * *

(b) * * *

Commodity | Parts per million | Expiration/revocation date
Citrus | 0.05 | 12/31/02
Citrus, dried pulp | 0.3 | 12/31/02
Citrus, oil | 0.3 | 12/31/02
Peanut | 0.05 | 12/31/03
Potato | 0.05 | 12/31/02

* * * * *

21. In § 180.443, the table in paragraph (b) is revised to read as follows:

§ 180.443 Myclobutanil; tolerances for residues.

* * * * *

(b) * * *

Commodity | Parts per million | Expiration/revocation date
Artichoke, globe | 1.0 | 6/30/03
Beet, sugar, dried pulp | 1.0 | 12/31/02
Beet, sugar, molasses | 1.0 | 12/31/02
Beet, sugar, refined sugar | 0.70 | 12/31/02
Beet, sugar, roots | 0.05 | 12/31/02
Beet, sugar, tops | 1.0 | 12/31/02
Hop, dried cones | 5.0 | 12/31/03
Pepper | 1.0 | 6/30/03

* * * * *

§ 180.449 [Amended]

22. In § 180.449, in the table in paragraph (b), remove the entry for “Celeriac”.

§ 180.452 [Amended]

23. In § 180.452, the text of paragraph (b) following the paragraph heading is removed and reserved.

§ 180.462 [Amended]

24. In § 180.462, the text of paragraph (b) following the paragraph heading is removed and reserved.

§ 180.463 [Amended]

25. In § 180.463, the text of paragraph (b) following the paragraph heading is removed and reserved.

26. In § 180.466, the table in paragraph (b) is revised to read as follows:

§ 180.466 Fenpropathrin; tolerances for residues.

* * * * *

(b) * * *

Commodity | Parts per million | Expiration/revocation date
Currant | 15 | 12/31/03

* * * * *

27. In § 180.472, the table in paragraph (b) is revised to read as follows:

§ 180.472 Imidacloprid; tolerances for residues.

* * * * *

(b) * * *

Commodity | Parts per million | Expiration/revocation date
Almond | 0.05 | 12/31/03
Almond, hulls | 4.0 | 12/31/03
Blueberry | 1.0 | 12/31/03
Cranberry | 0.5 | 12/31/03
Plum, prune | 10.0 | 12/31/03
Stone fruit | 3.0 | 12/31/03
Strawberry | 0.1 | 6/30/02
Vegetable, legume | 1.0 | 6/30/02

* * * * *

§ 180.474 [Amended]

28. In § 180.474, in the table in paragraph (b)(1), remove the entry for “Pistachios”, remove paragraph (b)(1) paragraph heading, redesignate paragraph (b)(1) as paragraph (b), and remove paragraph (b)(2).

29. In § 180.482, the table in paragraph (b) is revised to read as follows:

§ 180.482 Tebufenozide; tolerances for residues.

* * * * *

(b) * * *

Commodity | Parts per million | Expiration/revocation date
Beet, garden, roots | 0.3 | 12/31/02
Beet, garden, tops | 9.0 | 12/31/02
Egg | 0.01 | 6/30/03
Grape | 3.0 | 12/31/03
Grass, forage | 5 | 6/30/03
Grass, hay | 18 | 6/30/03
Longan | 1.0 | 12/31/03
Lychee | 1.0 | 12/31/03
Peanut | 0.05 | 6/30/03
Peanut, hay | 5 | 6/30/03
Peanut, meal | 0.15 | 6/30/03
Peanut, refined oil | 0.15 | 6/30/03
Poultry, fat | 0.1 | 6/30/03
Poultry, meat | 0.01 | 6/30/03
Poultry, meat byproducts | 0.05 | 6/30/03
Sunflower, seed | 1.5 | 12/31/02
Sweet potato, roots | 0.25 | 12/31/02
Vegetable, foliage of legume, group | 7.0 | 12/31/02
Vegetable, legume, group | 2.0 | 12/31/02

* * * * *

§ 180.493 [Amended]

30. In § 180.493, in the table to paragraph (b), remove the entries for “Potatoes”, “Tomatoes”, “Tomato paste”, and “Tomato puree”.

31. In § 180.499, the table in paragraph (b) is revised to read as follows:

§ 180.499 Propamocarb hydrochloride; tolerances for residues.

* * * * *

(b) * * *

Commodity | Parts per million | Expiration/revocation date
Tomato | 2.0 | 12/31/03
Tomato, paste | 5.0 | 12/31/03

* * * * *

§ 180.503 [Amended]

32. In § 180.503, in the table in paragraph (b), remove the entry for “Tomatoes.”

§ 180.504 [Removed and Reserved]

33. Section 180.504, is removed and reserved.

34. In § 180.507, the table in paragraph (b) is revised to read as follows:

§ 180.507 Azoxystrobin; tolerances for residues.

* * * * *

(b) * * *

Commodity | Parts per million | Expiration/revocation date
Brassica, head and Stem, subgroup | 30 | 12/31/03
Chickpea, seed | 0.5 | 12/31/03
Lychee | 3.0 | 12/31/03
Pepper | 2.0 | 12/31/03

* * * * *

35. In § 180.510, the table in paragraph (b) is revised to read as follows:

§ 180.510 Pyriproxyfen; tolerances for residues.

* * * * *

(b)* * *

Commodity | Parts per million | Expiration/revocation date
Bean, succulent | 0.10 | 6/30/03
Stone fruits (Crop Group 12) | 0.1 | 12/31/02

* * * * *

§ 180.513 [Removed and Reserved]

36. Section 180.513, is removed and reserved.

§ 180.515 [Amended]

37. In § 180.515, in the table in paragraph (b), remove the entries for “Rice, grain” and “Rice, straw”.

§ 180.516 [Amended]

38. In § 180.516, in the table in paragraph (b), remove the entry “Strawberry”.

§ 180.532 [Amended]

39. In § 180.532, in the table to paragraph (b), remove the entry “Strawberries”.

§ 180.546 [Amended]

40. In § 180.546, the text of paragraph (b) following the paragraph heading is removed and reserved.

§ 180.563 [Amended]

41. In § 180.563, the text of paragraph (b) following the paragraph heading is removed and reserved.

§ 180.565 [Amended]

42. In § 180.565, the text of paragraph (b) following the paragraph heading is removed and reserved.

[FR Doc. 02-11742 Filed 5-16-02; 8:45 am]

BILLING CODE 6560-50-S